Title 3—

The President

Proclamation 7441 of May 18, 2001

World Trade Week, 2001

By the President of the United States of America

A Proclamation

Trade has an extraordinary impact on our Nation's economic strength and can be a powerful force for good in the world. This year's World Trade Week, observed in communities across the country, will showcase the value of trade to all our citizens.

Exports have accounted for almost one-quarter of the United States economic growth during the past decade. We continue to be the world's largest exporter of goods and services. From life-saving medical devices to information technology that allows people to be more productive, American ingenuity is bringing some of the best and most competitive and innovative products to the world marketplace.

Across America, our exports support 12 million jobs that pay wages higher than the national average, and high-tech jobs supported by exports pay even more. It is no coincidence that the longest period of sustained economic growth in U.S. history has followed efforts to liberalize trade, such as the North American Free Trade Agreement and the Uruguay Round Agreement that established the World Trade Organization. Trade also leads to more competitive businesses, more choices of goods for consumers, and lower prices.

Along with economic progress, open trade also helps build democracies and spreads freedom as it reinforces the spirit of liberty by spurring economic and legal reforms. When we promote open trade, we promote both economic and political freedom. Societies that open to commerce will one day open to liberty.

World Trade Week celebrates trade as an economic and social engine for progress with a special focus on the services sector—the largest sector in the private economy, providing more than 85 million jobs. These service sector jobs involve a wide range of industries, including banking and insurance, travel, entertainment, telecommunications, energy, and environ mental services. We are proud that the United States is the world's top producer and exporter of services, exporting some $300 billion worth a year.

In addition to the significance of exporting services, export of goods continues to be vitally important to our economic performance. More than 20 percent of our domestic goods are exported, and for durable goods the figure jumps to 36 percent. These exports support millions of high-quality U.S. jobs and play a key role in U.S. economic growth. However, our ability to sustain or expand this growth will require tapping the trade potential of the emerging economies in Asia and Latin America, as well as bolstering our trade agreements with developed economies such as Japan and the European Union. Strengthening our trade agreements with these countries, not only opens their economies to U.S. goods and services, but also leads to higher rates of foreign investment. This investment creates growth, jobs, and the means to buy the products we export from the United States.

The United States will work for open trade at every opportunity. The executive and legislative branches need to work together to provide the means to cooperate on trade objectives. The renewal of U.S. trade promotion authority will bolster a partnership between the executive and legislative branches and will enhance the ability of the United States to negotiate new trade agreements. We will work for more open trade globally through talks in the WTO. We will work to create a free trade zone in the Western Hemisphere by 2005. Our commitment to open trade will be coupled with a commitment to protect our environment and improve labor standards.

NOW, THEREFORE, I, GEORGE W. BUSH, President of the United States of America, by virtue of the authority vested in me by the Constitution and laws of the United States, do hereby proclaim May 20 through May 26, 2001, as World Trade Week. I encourage Americans to observe this week with events, trade shows, and educational programs that celebrate the benefits of trade to our economy.

IN WITNESS WHEREOF, I have hereunto set my hand this eighteenth day of May, in the year of our Lord two thousand one, and of the Independence of the United States of America the two hundred and twenty-fifth.

B

[FR Doc. 01-13115

Filed 05-21-01; 10:19 am]

Billing code 3195-01-P